INTERNATIONAL TRADE COMMISSION

[Investigation Nos. 701-TA-523 and 731-TA-1259 (Final)]

Boltless Steel Shelving Units Prepackaged for Sale from China

Determinations

On the basis of the record ¹ developed in the subject investigations, the United States International Trade Commission (“Commission”) determines, pursuant to the Tariff Act of 1930 (“the Act”), that an industry in the United States is materially injured by reason of imports of boltless steel shelving units prepackaged for sale (“boltless steel shelving”) from China, provided for in subheadings 9403.10.00 and 9403.20.00 of the Harmonized Tariff Schedule of the United States, that have been found by the Department of Commerce to be sold in the United States at less than fair value (“LTFV”), and to be subsidized by the government of China.²

¹ The record is defined in sec. 207.2(f) of the Commission's Rules of Practice and Procedure (19 CFR 207.2(f)).

² Chairman Meredith M. Broadbent and Commissioner David S. Johanson determined that an industry in the United States was threatened with material injury by reason of imports of boltless steel shelving that Commerce found to be sold in the United States at LTFV and subsidized by the government of China.

Background

The Commission, pursuant to sections 705(b) and 735(b) of the Tariff Act of 1930 (19 U.S.C. 1671d(b) and 19 U.S.C. 1673d(b)), instituted these investigations effective August 26, 2014, following receipt of petitions filed with the Commission and Commerce by Edsal Manufacturing Co., Inc., Chicago, Illinois. The Commission scheduled the final phase of the investigations following notification of preliminary determinations by Commerce that imports of boltless steel shelving from China were subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on May 7, 2015 (80 FR 26296). The hearing was held in Washington, DC, on August 13, 2015, and all persons who requested the opportunity were permitted to appear in person or by counsel.

The Commission made these determinations pursuant to sections 705(b) and 735(b) of the Tariff Act of 1930 (19 U.S.C. 1671d(b) and 19 U.S.C. 1673d(b)). It completed and filed its determinations in these investigations on October 7, 2015. The views of the Commission are contained in USITC Publication 4565 (October 2015), entitled Boltless Steel Shelving Units Prepackaged for Sale From China: Investigation Nos. 701-TA-523 and 731-TA-1259 (Final).

By order of the Commission.
Issued: October 7, 2015.
Lisa R. Barton,
Secretary to the Commission.

[FR Doc. 2015-26049 Filed 10-13-15; 8:45 am]

BILLING CODE 7020-02-P